NUCLEAR REGULATORY COMMISSION

[NRC-2011-0233]

Updated Nuclear Regulatory Commission Fiscal Years 2008-2013 Strategic Plan

AGENCY: Nuclear Regulatory Commission.

ACTION: Strategic plan.

SUMMARY: The U.S. Nuclear Regulatory Commission (“NRC” or “Commission”) is announcing the availability of NUREG-1614, Volume 5, “U.S. Nuclear Regulatory Commission, Fiscal Years [FY] 2008-2013 Strategic Plan,” dated February 2012. The updated FY 2008-2013 strategic plan describes the agency's mission and strategic goals, which remain unchanged. The NRC's priority continues to be ensuring the adequate protection of public health and safety, and promoting the common defense and security.

ADDRESSES: You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by email to pdr.resource@nrc.gov. The updated strategic plan is available electronically in ADAMS under Accession No. ML12038A003.

• Federal Rulemaking Web Site: Public comments and supporting materials related to this document can be found at http://www.regulations.gov by searching on Docket ID NRC-2011-0233.

FOR FURTHER INFORMATION CONTACT: James E. Coyle, Office of the Chief Financial Officer, U.S. Nuclear Regulatory Commission, Washington, DC 20555-0001; telephone: 301-415-6087; email: James.Coyle@nrc.gov.

SUPPLEMENTARY INFORMATION: The Government Performance and Results Act Modernization Act of 2010 (GPRAMA) requires that an agency's strategic plan be updated for submission to the Congress and the President every four years. The NRC has developed an updated strategic plan for FY 2008-2013 to replace the agency's existing strategic plan.

The NRC published the draft strategic plan for FY 2012-2016 in the Federal Register for public comment on October 4, 2011 (76 FR 61402). NRC's Senior Management reviewed and considered all comments before updating the strategic plan. A comment resolution matrix is under ADAMS Accession No ML12038A002 reflecting the disposition of the comments received by the NRC will be posted on the NRC's Web site (www.nrc.gov), along with the updated strategic plan.

During the review process, the NRC decided to issue the plan as an update to the existing FY 2008-2013 strategic plan that was published in February 2008. This was due to the fact that there have been no substantial changes in the agency's mission and goals. However, to comply with the requirements of GPRAMA, the NRC is issuing an updated strategic plan. The updated strategic plan also takes into consideration the events that have occurred since the publication of the previous plan.

The NRC's updated FY 2008-2013 strategic plan describes the agency's mission and strategic goals, which remain unchanged. The NRC's priorities continue to be, as always, to ensure the adequate protection of public health and safety, promote the common defense and security, and protect the environment.

The updated strategic plan reflects the agency's Safety and Security goals, and their associated strategic outcomes. This focus on Safety and Security ensures that the NRC remains a strong, independent, stable, and effective regulator.

The updated strategic plan also describes the agency's Organizational Excellence strategies of Openness, Effectiveness, and Operational Excellence, which characterize the manner in which the agency intends to achieve its mission. The plan establishes the agency's long-term strategic direction and outcomes, and provides a foundation to guide the NRC's work and to allocate the NRC's resources.

Stakeholder feedback has been valuable in helping the Commission develop an updated plan that has the benefit of the many views in the regulated civilian nuclear industry.

Dated at Rockville, Maryland, this 1st day of March, 2012.
For the U.S. Nuclear Regulatory Commission.
Jennifer Golder,
Director, Office of the Chief Financial Officer.

[FR Doc. 2012-6152 Filed 3-13-12; 8:45 am]

BILLING CODE 7590-01-P